DEPARTMENT OF LABOR

Mine Safety and Health Administration

[OMB Control No. 1219-New]

New Information Collection Request: Demographic Information Collection for MSHA Grants

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the new information collection regarding Demographic Information Collection for MSHA Grants.

DATES: All comments must be received on or before April 1, 2024.

ADDRESSES: Comments concerning the information collection requirements of this notice may be sent by any of the methods listed below. Please note that late comments received after the deadline will not be considered.

• Federal E-Rulemaking Portal: http://www.regulations.gov. Follow the on-line instructions for submitting comments for docket number MSHA-2023-0021.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); 202-693-9440 (voice); or 202-693-9441 (facsimile). This is not a toll-free number.

SUPPLEMENTARY INFORMATION:

I. Background

Section 103(h) of the Federal Mine Safety and Health Act of 1977, as amended (Mine Act), 30 U.S.C. 813(h), authorizes MSHA to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal and metal and nonmetal mines.

MSHA works to prevent death, illness, and injury from mining and to promote safe and healthful workplaces for U.S. miners. Section 115 of the Mine Act, 30 U.S.C. 825, requires MSHA to approve mine operators' health and safety training programs for miners. To assist mine operators, MSHA administers two grant programs: State Grants and Brookwood-Sago Mine Safety Grants. The grant programs fund training for individuals, miners, employers, and contractors on how to recognize, avoid, and prevent unsafe and unhealthful working conditions in accordance with section 503 of the Mine Act, 30 U.S.C. 953, and section 14 of the Mine Improvement and New Emergency Response Act of 2006 (MINER Act), 30 U.S.C. 965.

State Grants

Under section 503 of the Mine Act, 30 U.S.C. 953, the Secretary may award grants to States to assist in developing and enforcing State mine health and safety laws and regulations, to improve State workers' compensation and mining occupational disease laws and programs, and to improve health and safety conditions in the Nation's mines through Federal-State coordination and cooperation. Any State in which mining takes place may apply for the State Grants. Under 30 U.S.C. 953(g), MSHA may fund up to 80 percent of the State Grants activities and a Grant recipient must provide matching funds of no less than 20 percent of the total costs. This State Grant program supports federally mandated training of miners and mine operators working at surface and underground coal, metal, and nonmetal mines. Under 30 U.S.C. 953(e) of the Mine Act, a State grant application or modification may include a program to train State mine inspectors.

MSHA recognizes that State training programs are a key source of mine safety and health training and education for individuals who work or will work at mines. MSHA encourages State training programs to prioritize health and safety training for small mining operations and underserved mines and miners within the mining industry, and to prioritize diversity, equity, inclusion, and accessibility. MSHA has recently expanded the priority to include underserved operators and miners, including limited English proficient (LEP) and low literacy individuals.

MSHA supports programs that emphasize training on miners' statutory rights, including the right to work in a safe working environment, to refuse an unsafe task, and to have a voice in the safety and health conditions at the mine. In particular, MSHA encourages grant recipients to address the following topics in their training and education programs: occupational health hazards caused by exposures to respirable coal mine dust and respirable crystalline silica; powered haulage and mobile equipment safety; mine emergency preparedness; mine rescue; electrical safety; contract and customer truck drivers; improving training for new and inexperienced miners; managers and supervisors performing mining tasks; pillar safety for underground mines; and falls from heights.

Brookwood-Sago Mine Safety Grants

Section 14 of the MINER Act, 30 U.S.C. 965, established the Brookwood-Sago Mine Safety Grants. This competitive grant program provides funding for education and training programs to better identify, avoid, and prevent unsafe working conditions in and around mines. Grantees can use these funds to establish and implement education and training programs or to create training materials and programs on MSHA-identified safety priorities. Funds can also be used to develop and implement training and related materials for mine emergency preparedness as well as for the prevention of accidents in underground mines.

MSHA expects Brookwood-Sago Mine Safety grantees to develop training or educational materials and/or provide mine safety training or educational programs, to recruit mine operators and miners to participate in training, and to conduct and evaluate the training program. 30 U.S.C. 965 mandates that the Secretary emphasize programs and materials that target smaller mines, including programs and materials for training mine operators and miners about new MSHA standards, high risk activities, or hazards. The Brookwood-Sago Mine Safety Grants give priority to the funding of pilot and demonstration projects that will provide opportunities for broad applicability for mine safety. Special attention will also be given to programs and materials that serve underserved mines and miners within the mining industry, and that prioritize diversity, equity, inclusion, and accessibility.

Under 30 U.S.C. 965, the Brookwood-Sago Mine Safety Grants are required to conduct follow-up evaluations with the people who received the training provided under the grants to measure how the training promotes the DOL's strategic goal to “Ensure Safe Jobs, Essential Protections, and Fair Workplaces,” and MSHA's goal to “prevent fatalities, disease, and injury from mining, and secure safe and healthful working conditions for America's miners.” Evaluations will focus on determining how effective the subject training was in either reducing hazards, improving miners' skills, or improving safety and health conditions in mines. Grantees must fully cooperate with MSHA evaluators; such cooperation may include providing MSHA evaluators relevant data, educational or training materials, or information on training methods and equipment.

Additional Authorities

Executive Order (E.O.) 13985 on “Advancing Racial Equity and Support for Underserved Communities Through the Federal Government” aims to advance equity and provide everyone with the opportunity to reach their full potential. The E.O. requires each agency to assess whether, and to what extent, its programs and policies perpetuate systemic barriers to opportunities and benefits for people of color and other underserved groups.

In response to E.O. 13985, the Department of Labor developed an “Equity Action Plan” which highlighted several of MSHA's planning efforts to reach workers with limited English proficiency, including:

• MSHA is planning several initiatives to expand its reach to Spanish language-speaking populations, including by recruiting for new bilingual positions in regions where there is a mining community that is predominantly Spanish-speaking, developing more bilingual signs to inform mine workers of health and safety risks in languages they can read and understand, and introducing new bilingual training assistance, including for mine operators and contractors, to ensure that health and safety training initiatives reach all mine workers.

• In addition, MSHA is tracking progress toward its new performance milestone of making half of MSHA signs available in Spanish.

To fulfill these goals and to carry out MSHA's initiatives, the Agency creates the “MSHA Participant Demographic Information Form.” This optional form will be distributed among training participants by grantees after completing training. The new survey form will ask training participants to identify their age, gender, ethnicity, race, and primary language spoken. This information will be kept confidential (i.e., the responses are not associated with a specific participant) and will be reported only in the aggregate.

By collecting this demographic and primary language data, MSHA will improve its ability to identify barriers that prevent underserved rural and minority communities from benefitting from MSHA grantees' training and compliance assistance programs and thereby accessing safe and healthy jobs in the mining industry. The collected data may identify training needs for women and individuals with limited English proficiency in underserved communities in rural and minority areas. Equipped with this data, MSHA will be better able to take steps to overcome these barriers and lay out targeted activities, such as increasing the number of MSHA-approved non-English speaking instructors and training materials to assist individuals with low literacy and limited English proficiency.

Additionally, State grantees will submit to MSHA a modified form called “State Grants Demographic Information Progress Report.” This form will report a summary of training participants' aggregate responses by the end of each quarter.

II. Desired Focus of Comments

MSHA is soliciting comments concerning the proposed information collection related to Demographic Information Collection for MSHA Grants. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns Demographic Information Collection for MSHA Grants, including two new data collection forms. MSHA has provided the data with respect to the number of respondents, responses, burden hours, and burden costs supporting this new information collection request.

Type of Review: New collection.

Agency: Mine Safety and Health Administration.

OMB Number: 1219-New.

Affected Public: Individuals, state, tribal, and territorial governments, business or other for-profits, and non-profit institutions.

Number of Annual Respondents: 150,706.

Frequency: On occasion, quarterly, and annually.

Number of Annual Responses: 150,930.

Annual Burden Hours: 8,093.

Annual Respondent or Recordkeeper Cost: $0.

MSHA Forms: MSHA Participant Demographic Information Collection Form; MSHA State Grants Demographic Information Progress Report.

Comments submitted in response to this notice will be summarized and included in the request for Office of Management and Budget approval of the proposed new information collection request; they will become a matter of public record and will be available at https://www.reginfo.gov.

Song-ae Aromie Noe,
Certifying Officer, Mine Safety and Health Administration.

[FR Doc. 2024-01893 Filed 1-30-24; 8:45 am]

BILLING CODE 4510-43-P